DEPARTMENT OF ENERGY

Federal Energy Regulatory Commission

Combined Notice of Filings #1

Take notice that the Commission received the following exempt wholesale generator filings:

Docket Numbers: EG25-441-000.

Applicants: High Spring Solar Energy, LLC.

Description: High Spring Solar Energy, LLC submits Notice of Self-Certification of Exempt Wholesale Generator Status.

Filed Date: 8/11/25.

Accession Number: 20250811-5175.

Comment Date: 5 p.m. ET 9/2/25.

Docket Numbers: EG25-442-000.

Applicants: Hecate Energy Longhorn Solar LLC.

Description: Hecate Energy Longhorn Solar LLC submits Notice of Self-Certification of Exempt Wholesale Generator Status.

Filed Date: 8/12/25.

Accession Number: 20250812-5045.

Comment Date: 5 p.m. ET 9/2/25.

Docket Numbers: EG25-443-000.

Applicants: CDH Vidal LLC.

Description: CDH Vidal LLC submits Notice of Self-Certification of Exempt Wholesale Generator Status.

Filed Date: 8/12/25.

Accession Number: 20250812-5046.

Comment Date: 5 p.m. ET 9/2/25.

Docket Numbers: EG25-444-000.

Applicants: Ferdinand Grid LLC.

Description: Ferdinand Grid LLC submits Notice of Self-Certification of Exempt Wholesale Generator Status.

Filed Date: 8/12/25.

Accession Number: 20250812-5057.

Comment Date: 5 p.m. ET 9/2/25.

Docket Numbers: EG25-445-000.

Applicants: Pioneer Creek Wind Project, LLC.

Description: Pioneer Creek Wind Project, LLC submits Notice of Self-Certification of Exempt Wholesale Generator Status.

Filed Date: 8/12/25.

Accession Number: 20250812-5159.

Comment Date: 5 p.m. ET 9/2/25.

Take notice that the Commission received the following Complaints and Compliance filings in EL Dockets:

Docket Numbers: EL25-111-000.

Applicants: EDF power solutions Development, Inc.

Description: Petition for Declaratory Order of EDF power solutions Development, Inc.

Filed Date: 8/7/25.

Accession Number: 20250807-5134.

Comment Date: 5 p.m. ET 9/8/25.

Take notice that the Commission received the following electric rate filings:

Docket Numbers: ER14-1193-008.

Applicants: West Deptford Energy, LLC.

Description: Compliance filing: Informational Filing Regarding Upstream Transfer of Ownership to be effective N/A.

Filed Date: 8/12/25.

Accession Number: 20250812-5082.

Comment Date: 5 p.m. ET 9/2/25.

Docket Numbers: ER18-2511-010.

Applicants: NorthWestern Corporation.

Description: Supplement to 06/30/2025, Triennial Market Power Analysis for Northwest Region of NorthWestern Corporation.

Filed Date: 8/6/25.

Accession Number: 20250806-5208.

Comment Date: 5 p.m. ET 10/6/25.

Docket Numbers: ER25-1335-001.

Applicants: Elwood Energy LLC.

Description: Compliance filing: Compliance Filing to be effective 6/1/2025.

Filed Date: 8/12/25.

Accession Number: 20250812-5126.

Comment Date: 5 p.m. ET 9/2/25.

Docket Numbers: ER25-2776-000.

Applicants: Biscayne Falls SPV, LLC.

Description: Supplement to 07/02/2025, Biscayne Falls SPV, LLC tariff filing.

Filed Date: 8/6/25.

Accession Number: 20250806-5204.

Comment Date: 5 p.m. ET 8/18/25.

Docket Numbers: ER25-2777-001.

Applicants: Southwest Power Pool, Inc.

Description: Tariff Amendment: 1636R33 Kansas Electric Power Cooperative, Inc. NITSA and NOA Amended to be effective 9/1/2025.

Filed Date: 8/12/25.

Accession Number: 20250812-5030.

Comment Date: 5 p.m. ET 9/2/25.

Docket Numbers: ER25-3148-000.

Applicants: Ellsworth Energy Storage, LLC.

Description: § 205(d) Rate Filing: Application for Market-Based Rate Authorization to be effective 10/11/2025.

Filed Date: 8/11/25.

Accession Number: 20250811-5163.

Comment Date: 5 p.m. ET 9/2/25.

Docket Numbers: ER25-3149-000.

Applicants: Valley Farms Energy Center, LLC.

Description: § 205(d) Rate Filing: Application for Market-Based Rate Authorization to be effective 10/11/2025.

Filed Date: 8/11/25.

Accession Number: 20250811-5167.

Comment Date: 5 p.m. ET 9/2/25.

Docket Numbers: ER25-3150-000.

Applicants: Mount Vernon Battery Storage, LLC.

Description: § 205(d) Rate Filing: Application for Market-Based Rate Authorization—Mount Vernon Battery Storage to be effective 10/11/2025.

Filed Date: 8/11/25.

Accession Number: 20250811-5168.

Comment Date: 5 p.m. ET 9/2/25.

Docket Numbers: ER25-3151-000.

Applicants: Selma Energy Center, LLC.

Description: § 205(d) Rate Filing: Application for Market-Based Rate Authorization to be effective 10/11/2025.

Filed Date: 8/11/25.

Accession Number: 20250811-5169.

Comment Date: 5 p.m. ET 9/2/25.

Docket Numbers: ER25-3152-000.

Applicants: Rpower, LLC.

Description: Tariff Amendment: Cancellation of MBR Tariff to be effective 9/30/2025.

Filed Date: 8/12/25.

Accession Number: 20250812-5025.

Comment Date: 5 p.m. ET 9/2/25.

Docket Numbers: ER25-3153-000.

Applicants: PJM Interconnection, L.L.C.

Description: § 205(d) Rate Filing: Amendment to ISA, Service Agreement No. 4030; Queue Position No. AA2-102 to be effective 10/12/2025.

Filed Date: 8/12/25.

Accession Number: 20250812-5031.

Comment Date: 5 p.m. ET 9/2/25

Docket Numbers: ER25-3154-000.

Applicants: Southwest Power Pool, Inc.

Description: § 205(d) Rate Filing: Revisions to Revise the Application of the Net Benefits Test to be effective 12/31/9998.

Filed Date: 8/12/25.

Accession Number: 20250812-5033.

Comment Date: 5 p.m. ET 9/2/25.

Docket Numbers: ER25-3155-000.

Applicants: 64NB 8me LLC.

Description: Compliance filing: Shared Facilities Agreement, to be effective 8/13/2025.

Filed Date: 8/12/25.

Accession Number: 20250812-5065.

Comment Date: 5 p.m. ET 9/2/25

Docket Numbers: ER25-3156-000.

Applicants: PacifiCorp.

Description: § 205(d) Rate Filing: Deseret TSOA Rev 11 (RS No. 280) to be effective 10/12/2025.

Filed Date: 8/12/25.

Accession Number: 20250812-5070.

Comment Date: 5 p.m. ET 9/2/25.

Docket Numbers: ER25-3157-000.

Applicants: PacifiCorp.

Description: § 205(d) Rate Filing: UAMPS TSOA Rev 10 (RS No. 297) to be effective 10/12/2025.

Filed Date: 8/12/25.

Accession Number: 20250812-5071.

Comment Date: 5 p.m. ET 9/2/25.

Docket Numbers: ER25-3158-000.

Applicants: PacifiCorp.

Description: § 205(d) Rate Filing: UMPA TSOA Rev 8 (RS No. 637) to be effective 10/12/2025.

Filed Date: 8/12/25.

Accession Number: 20250812-5072.

Comment Date: 5 p.m. ET 9/2/25.

Docket Numbers: ER25-3159-000.

Applicants: Otter Tail Power Company.

Description: § 205(d) Rate Filing: Certificates of Concurrence—Alexandria to Big Oaks Project to be effective 8/18/2010.

Filed Date: 8/12/25.

Accession Number: 20250812-5074.

Comment Date: 5 p.m. ET 9/2/25.

Docket Numbers: ER25-3159-001.

Applicants: Otter Tail Power Company.

Description: Tariff Amendment: Certificate of Concurrence—Transmission Capacity Exchange Agreement 281-NSP to be effective 4/16/2016.

Filed Date: 8/12/25.

Accession Number: 20250812-5091.

Comment Date: 5 p.m. ET 9/2/25.

Docket Numbers: ER25-3160-000.

Applicants: Midcontinent Independent System Operator, Inc., Michigan Electric Transmission Company, LLC.

Description: § 205(d) Rate Filing: Michigan Electric Transmission Company, LLC submits tariff filing per 35.13(a)(2)(iii: 2025-08-12 SA 2964 METC-City of Marshall Termination of IFA to be effective 5/31/2025.

Filed Date: 8/12/25.

Accession Number: 20250812-5094.

Comment Date: 5 p.m. ET 9/2/25.

Docket Numbers: ER25-3161-000.

Applicants: PJM Interconnection, L.L.C.

Description: § 205(d) Rate Filing: Revised ISA SA No. 1767; Queue No. P06 to be effective 9/30/2024.

Filed Date: 8/12/25.

Accession Number: 20250812-5132.

Comment Date: 5 p.m. ET 9/2/25.

Docket Numbers: ER25-3162-000.

Applicants: Southwest Power Pool, Inc.

Description: § 205(d) Rate Filing: 1768R2 American Electric Power Service Corporation NITSA NOA to be effective 6/1/2025.

Filed Date: 8/12/25.

Accession Number: 20250812-5146.

Comment Date: 5 p.m. ET 9/2/25.

Docket Numbers: ER25-3163-000.

Applicants: PJM Interconnection, L.L.C.

Description: § 205(d) Rate Filing: Amendment to ISA, SA No. 6609; AD1-025 to be effective 10/12/2025.

Filed Date: 8/12/25.

Accession Number: 20250812-5149.

Comment Date: 5 p.m. ET 9/2/25.

Docket Numbers: ER25-3164-000.

Applicants: Eloy Valley Energy Center III, LLC.

Description: § 205(d) Rate Filing: Application for Market-Based Rate Authorization to be effective 10/12/2025.

Filed Date: 8/12/25.

Accession Number: 20250812-5150.

Comment Date: 5 p.m. ET 9/2/25.

Docket Numbers: ER25-3165-000.

Applicants: Harquahala Flats Energy Storage, LLC.

Description: § 205(d) Rate Filing: Application for Market-Based Rate Authorization to be effective 10/12/2025.

Filed Date: 8/12/25.

Accession Number: 20250812-5155.

Comment Date: 5 p.m. ET 9/2/25.

Docket Numbers: ER25-3166-000.

Applicants: Harquahala Flats Energy Storage II, LLC.

Description: § 205(d) Rate Filing: Application for Market-Based Rate Authorization to be effective 10/12/2025.

Filed Date: 8/12/25.

Accession Number: 20250812-5156.

Comment Date: 5 p.m. ET 9/2/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 12, 2025.
Carlos D. Clay,
Deputy Secretary.

[FR Doc. 2025-15540 Filed 8-14-25; 8:45 am]

BILLING CODE 6717-01-P